DEPARTMENT OF ENERGY

Federal Energy Regulatory Commission

[Project No. 14125-000]

Reliable Storage 1 LLC; Notice of Preliminary Permit Application Accepted for Filing and Soliciting Comments, Motions To Intervene, and Competing Applications

On March 25, 2011, Reliable Storage 1 LLC, filed an application, pursuant to section 4(f) of the Federal Power Act, proposing to study the feasibility of hydropower near the town of Lake City, in Campbell County, Tennessee. The sole purpose of a preliminary permit, if issued, is to grant the permit holder priority to file a license application during the permit term. A preliminary permit does not authorize the permit holder to perform any land-disturbing activities or otherwise enter upon lands or waters owned by others without the owners' express permission.

The proposed pumped storage project would consist of the following: (1) A 10-foot-high, 12,100-foot-long roller compacted concrete ringed dike; (2) an upper reservoir with a surface area of 128.6 acres and an 7,914.4 acre-foot storage capacity; (3) a 180-foot-high, 1,248-foot-long earth embankment dam creating; (4) a lower reservoir with a surface area of 101 acres and an 7,594 acre-foot storage capacity; (5) one 24-foot-diameter, 5,300-foot-long penstock; (6) a bifurcation to three 14-foot-diameter, and 50-foot-long penstocks; (7) a powerhouse/pumping station containing three pump/generating units with a total generating capacity of 1,062 megawatts; (8) a substation; and (9) a 2.66-mile-long, 115 kV transmission line to an existing distribution line. The proposed project would have an average annual generation of 2,761,000,000 megawatt-hours (MWh), which would be sold to theTennessee Valley Authority.

Applicant Contact: Ramya Swaminathan, Free Flow Power Corporation, 239 Causeway Street, Boston, MA 02114; phone (978) 283-2822.

FERC Contact: Michael Spencer, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE, Washington, DC 20426.

More information about this project, including a copy of the application, can be viewed or printed on the “eLibrary” link of the Commission's Web site at http://www.ferc.gov/docs-filing/elibrary.asp. Enter the docket number (P-14125-000) in the docket number field to access the document. For assistance, contact FERC Online Support.

Dated: July 20, 2011.
Nathaniel J. Davis, Sr.,
Deputy Secretary.

[FR Doc. 2011-19070 Filed 7-27-11; 8:45 am]

BILLING CODE 6717-01-P